NUCLEAR REGULATORY COMMISSION

Notice of Denial—Completion of Ground-Water Restoration in Unit 1 Wellfield, Crow Butte Resources, Dawes County, NE

AGENCY: Nuclear Regulatory Commission.

ACTION: Notice of denial.

SUMMARY: On March 29, 2002, the U.S. Nuclear Regulatory Commission (NRC) denied the requested approval of ground-water restoration completion in the Unit 1 wellfield at the Crow Butte Resources, Incorporated, In Situ Leach (ISL) uranium extraction facility located near the town of Crawford, Dawes County, Nebraska. The facility is licensed to process and possess natural uranium by Materials License Number SUA-1534, issued in accordance with Title 10 Code of Federal Regulations (CFR) part 40.

Crow Butte Resources, Incorporated, (the licensee) requested approval for completing ground-water restoration in its Unit 1 wellfield, upon concluding activities that resulted in contaminant concentrations within the uranium ore zone of the Chadron Aquifer reaching acceptable levels, determined to be protective of public health and the environment. NRC denied the licensee's request for approval, based on a finding that the licensee did not demonstrate that Unit 1 restoration activities would result in future constituent levels remaining at levels protective of human health and the environment, in accordance with 10 CFR 40.31(h) and Criterion 5F, 10 CFR part 40, Appendix A. In addition, the licensee is required to immediately restart stabilization ground-water monitoring in Unit 1 at the monitoring locations described in the January 10, 2000, Restoration Report. The ground-water shall be sampled and analyzed for the constituents listed in License Condition 10.3B, SUA-1534, on a schedule of at least 14 days apart. The wellfield restoration shall be considered stable if four consecutive sampling episodes show no strongly increasing concentration trends for all monitored constituents, on a wellfield average, as described in Section 6.1.3, “Standard Review Plan for In Situ Leach Uranium Extraction License Applications,” NUREG-1569.

At that time, the licensee shall submit a written report for NRC review and approval, which provides a tabulation of all stability monitoring data for Unit 1, graphics showing time versus concentration of each monitored constituent, and analyses that demonstrate the restored constituent concentrations are within license limits and are stable. Stability monitoring should continue until four consecutive sampling episodes show no strongly increasing concentration trends. Wellfield restoration activities should be immediately re-initiated in Unit 1 if the concentration of any monitored constituent exceeds its license limit. The licensee should also revise its ground-water restoration plan to reflect a stability monitoring period which will allow all constituents to reach stability before ceasing the monitoring. This revision should be submitted for NRC review and approval in the form of an amendment to License Condition 10.3C, SUA-1534.

In accordance with 10 CFR 2.790 of the NRC's “Rules of Practice,” a copy of NRC's Denial letter and the accompanying Technical Evaluation Report (Accession Number ML020930087) is available electronically for public inspection in the NRC Public Document Room or from the Publicly Available Records (PARS) component of NRC's document system (ADAMS). ADAMS is accessible from the NRC Web site at http://www.nrc.gov/reading-rm.html (the Public Electronic Reading Room).

Pursuant to 10 CFR 2.108(b) the licensee shall have 30 days from the date of this Notice of Denial to file a petition, requesting a hearing before the Atomic Safety Licensing Board Panel on this denial.

FOR FURTHER INFORMATION CONTACT: Michael Layton @ 301 415 6676 or mcl@nrc.gov.

Dated at Rockville, Maryland, this 15th day of April, 2002.
For the Nuclear Regulatory Commission.
Robert Pierson,
Director, Division of Fuel Cycle Safety and Safeguards, Office of Nuclear Material Safety and Safeguards.

[FR Doc. 02-9733 Filed 4-19-02; 8:45 am]

BILLING CODE 7590-01-P